DEPARTMENT OF TRANSPORTATION

Surface Transportation Board

[STB Finance Docket No. 34838]

The Arkansas, Louisiana & Mississippi Railroad Company—Lease and Operation Exemption—Union Pacific Railroad Company

The Arkansas, Louisiana & Mississippi Railroad Company (AL&M), a Class III rail carrier, has filed a verified notice of exemption under 49 CFR 1150.41 to lease and operate approximately 4.24 miles of Union Pacific Railroad Company (UP) rail line between milepost 551.76, a point north of Bastrop, LA, and milepost 556.0, a point south of Bastrop, LA. The transaction includes the line, known as UP's Bastrop Industrial Lead, and all associated yard track.

AL&M certifies that its projected revenues as a result of this transaction will not result in the creation of a Class II or Class I rail carrier. But, because AL&M's projected annual revenues will exceed $5 million, it certified to the Board on February 17, 2006, that it posted a copy of a notice at the workplace of the employees on the affected line and sent the required notice to the national offices of all labor unions representing those employees. See 49 CFR 1150.42(e).

The transaction was scheduled to be consummated on or after July 5, 2006. If the notice contains false or misleading information, the exemption is void ab initio. Petitions to revoke the exemption under 49 U.S.C. 10502(d) may be filed at any time. The filing of a petition to revoke will not automatically stay the transaction.

An original and 10 copies of all pleadings, referring to STB Finance Docket No. 34838, must be filed with the Surface Transportation Board, 1925 K Street, NW., Washington, DC 20423-0001. In addition, one copy of each pleading must be served on Eric M. Hocky, Esq., Gollatz, Griffin & Ewing, P.C., Four Penn Center, Suite 200, 1600 John F. Kennedy Blvd., Philadelphia, PA 19103-2808.

Board decisions and notices are available on our Web site at http://www.stb.dot.gov.

Decided: July 10, 2006.
By the Board, David M. Konschnik, Director, Office of Proceedings.
Vernon A. Williams,
Secretary.

[FR Doc. E6-11102 Filed 7-14-06; 8:45 am]

BILLING CODE 4915-01-P